FEDERAL RESERVE SYSTEM

Agency Information Collection Activities: Announcement of Board Approval Under Delegated Authority and Submission to OMB

SUMMARY:

Background

Notice is hereby given of the final approval of a proposed information collection by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Mary M. West—Division of Research and Statistics, Board of Governors of the Federal Reserve System, Washington, DC 20551 (202-452-3829), OMB Desk Officer—Alexander T. Hunt—Office of Information and Regulatory Affairs, Office of Management and Budget, New Executive Office Building, Room 3208, Washington, DC 20503 (202-395-7860).

Final Approval Under OMB Delegated Authority of the Implementation of the Following Report

1. Report title: Declaration for a State Member Bank to Control, or Hold an Interest In, a Financial Subsidiary.

Agency form number: FR 4017.

OMB Control number: 7100-0292.

Frequency: Event-generated.

Reporters: State Member Banks.

Annual reporting hours: 100 hours.

Estimated average hours per response: 1 hour.

Number of respondents: 100.

Small businesses are not affected.

General description of report: This information collection is required to obtain a benefit by Title I of the Gramm-Leach-Bliley Act (Pub. L. 106-103, 113 Stat. 1338 (1999)). A company may request confidentiality for the information contained in the information collection pursuant to section (b)(4) and (b)(6) of the Freedom of Information Act (5 U.S.C. 552 (b)(4) and (b)(6)).

Abstract: In March 2000, the Board adopted, on an interim basis, and requested public comment on a rule implementing the financial subsidiary provisions of the GLB Act for state member banks (Docket No. R-1064; 65 Federal Register 14810 (2000)). The interim rule specifies the capital, managerial, Community Reinvestment Act and other requirements that a state member bank must meet to own or control a financial subsidiary under the GLB Act. In addition, the interim rule requires a state member bank to provide notice to the Federal Reserve at least 15 days prior to establishing a financial subsidiary or commencing a newly authorized financial activity through an existing financial subsidiary. The notice must provide basic information concerning the proposed transaction and certify that bank and its depository institution affiliates meet the capital and managerial requirements of the GLB Act.

The Federal Reserve received one comment on the interim rule that bears on the rule's information collection requirements. This commenter suggested that the Federal Reserve eliminate the 15-day review period for financial subsidiary notices and permit a state member bank to immediately consummate a proposed transaction after filing a certification that the bank meets the GLB Act's capital, managerial, and other requirements. Staff believes that the brief 15-day review period included in the interim rule provides the Federal Reserve an appropriate period of time to verify that a state member bank meets the capital, managerial, and other requirements imposed by the GLB Act. Accordingly, it is anticipated that the final rule presented to the Board will continue to include a period for System review of financial subsidiary notices.

Board of Governors of the Federal Reserve System, May 23, 2001.
Robert deV. Frierson,
Associate Secretary of the Board.

[FR Doc. 01-13475 Filed 5-29-01; 8:45 am]

BILLING CODE 6210-01-P